DEPARTMENT OF TRANSPORTATION

Coast Guard

33 CFR Part 117

[CGD05-01-052]

RIN 2115-AE47

Drawbridge Operation Regulations; Darby Creek, PA

AGENCY: Coast Guard, DOT.

ACTION: Final rule.

SUMMARY: The Coast Guard is changing the operating regulations for the Consolidated Rail Corporation (CONRAIL) Railroad Bridge and the Reading Railroad Bridge, both across Darby Creek at mile 0.3, in Essington, Pennsylvania. The final rule for the CONRAIL Railroad Bridge will eliminate the need for a bridge tender by allowing the bridge to be operated by the bridge/train controller from a remote location. The Reading Railroad Bridge will be left in the open position. The final rule will provide for the reasonable needs of navigation.

DATES: This rule is effective March 13, 2002.

ADDRESSES: Comments and material received from the public, as well as documents indicated in this preamble as being available in the docket, are part of docket CGD05-01-052 and are available for inspection or copying at Commander (Aowb), Fifth Coast Guard District, Federal Building, 4th Floor, 431 Crawford Street, Portsmouth, Virginia 23704-5004 between 8 a.m. and 4:30 p.m., Monday through Friday, except Federal holidays.

FOR FURTHER INFORMATION CONTACT: Ann B. Deaton, Bridge Administrator, Fifth Coast Guard District, at (757) 398-6222.

SUPPLEMENTARY INFORMATION:

Regulatory Information

On October 10, 2001, we published a notice of proposed rulemaking (NPRM) entitled “Drawbridge Operation Regulations; Darby Creek, Pennsylvania” in the Federal Register (66 FR 51614). We received two letters commenting on the proposed rule. No public hearing was requested, and none was held.

Background and Purpose

CONRAIL, who owns and operates both drawbridges, requested changes to the operating procedures for both their drawbridges across Darby Creek, mile 0.3, located in Essington, Pennsylvania. These changes allow the operation of the CONRAIL Railroad Bridge from a remote location for train crossings or maintenance. Under this rule, the bridge/train controller at the Delair Railroad Bridge, in Delair, New Jersey, will operate the CONRAIL Railroad Bridge across Darby Creek. The Reading Railroad Bridge will be maintained in the open position for vessels at all times. The current operating schedule for the both drawbridges is set out in 33 CFR 117.903. The regulation states that from May 15 through October 15, from 11 p.m. to 7 a.m., the draws need not be opened for the passage of vessels. Between 7 a.m. and 11 p.m., the draws shall open on signal at 7:15 a.m., 10:30 a.m., 1 p.m., 3 p.m., 7:30 p.m. and 10:30 p.m. and at all other times during these hours, if an opening will not unduly delay railroad operations; and from October 16 through May 14, the draws shall open on signal if at least 24 hours notice is given. However, the CONRAIL Railroad Bridge currently is left in the open position and only closed by a bridge tender on site for passage of an approaching train.

Under this rule, when a train approaches the CONRAIL Railroad Bridge, it will stop and a crewmember will be on-site to assist in observing the waterway for approaching craft, which will be allowed to pass. The crewmember will then communicate with the off-site bridge/train controller at the Delair Railroad Bridge either by radio or telephone, requesting the off-site bridge/train controller to lower the bridge. Before closing the CONRAIL Railroad Bridge, the off-site bridge/controller will monitor waterway traffic on Darby Creek in the area of the drawbridge by maintaining constant surveillance of the navigation channel using infrared channel sensors to ensure no conflict with maritime traffic exists. Channel traffic lights located on top of the bridge will change from flashing green to flashing red any time the bridge is not in the full open position.

This rule will make the closure process of the CONRAIL Railroad Bridge more efficient during train crossings and periodic maintenance, and will save operational costs by eliminating bridge tenders while still providing the same bridge capabilities.

Since 1980, the Reading Railroad Bridge has had the tracks removed on the north and south sides of the bridge and is secured in the full open position to allow marine traffic to pass. In accordance with 33 CFR 117.41, the lift-span had been placed in the full open position for vessels. This final rule formalizes the current operation of the Reading Railroad Bridge.

Discussion of Comments and Changes

The Coast Guard received two comments on the NPRM. The first comment favored the proposed changes in the operation of the CONRAIL Railroad Bridge.

The second comment, from CONRAIL, noted that the off-site bridge/train controller would stop the CONRAIL Railroad Bridge and return it to the open position in the event of lost communications or failure of the infrared sensors. The proposed rule, in paragraph (a)(7), stated that the bridge would “automatically” stop and return to the open position in each occurrence.

The Coast Guard considers this change proposed by CONRAIL to be more reliable and efficient in the event of an emergency and the final rule was change to reflect this procedure.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Transportation (DOT)(44 FR 11040, February 26, 1979). We expect the economic impact of the final rule to be so minimal that a full Regulatory Evaluation under paragraph 10e of the regulatory policies and procedures of DOT is unnecessary. We reached this conclusion based on the fact that this final rule for the Conrail Railroad Bridge will provide for greater flow of vessel traffic than the current regulations for the drawbridge.

Under the current regulations, the Conrail Railroad Bridge remains closed and opens after proper signal from May 15 through October 15. The final rule will require the bridge to remain in the open position during this period, permitting vessels to pass freely. The bridge will close only for train crossings and bridge maintenance. This final rule will provide for the reasonable needs of navigation.

For the Reading Railroad Bridge, the final rule will provide for the reasonable needs of navigation since the bridge is maintained in the open position for vessel passage at all times.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This final rule will not have a significant economic impact on a substantial number of small entities because it will provide for the CONRAIL Railroad Bridge to operate remotely and remain in the open position, allowing the free flow of vessel traffic from May 15 through October 15. The bridge will only close for the passage of trains and maintenance. From October 16 through May 14, the drawbridge shall open on signal if at least 24 hours notice is given.

The Reading Railroad Bridge will have no impact since the bridge is maintained in the open position at all times for vessel passage.

Assistance for Small Entities

Under section 213(a) of the Small Business Regulatory Enforcement Fairness Act of 1996 (Public Law 104-121), we offered to assist small entities in understanding the rule so that they could better evaluate its effects on them and participate in the rulemaking process. In our notice of proposed rulemaking, we provided a point of contact to small businesses who would answer questions concerning proposed provisions or options for compliance.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such expenditure, we do discuss the effects of this rule elsewhere in this preamble.

Taking of Private Property

This rule will not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have considered the environmental impact of this rule and concluded that under figure 2-1, paragraph (32)(e), of Commandant Instruction M16475.1D, this rule is categorically excluded from further environmental documentation. The final rule only involves the operation of existing drawbridges and will not have any impact on the environment. A “Categorical Exclusion Determination” is available in the docket for inspection or copying where indicated under ADDRESSES.

List of Subjects in 33 CFR Part 117

Bridges.

For the reasons discussed in the preamble, the Coast Guard amends 33 CFR part 117 as follows:

PART 117—DRAWBRIDGE OPERATION REGULATIONS

1. The authority citation for part 117 continues to read as follows:

Authority: 33 U.S.C. 499; 49 CFR 1.46; 33 CFR 1.05-1(g); Section 117.255 also issued under authority of Pub.L. 102-587, 106 Stat. 5039.

2. Section 117.903 is revised to read as follows:

§ 117.903 Darby Creek.

(a) The draw of the CONRAIL Railroad Bridge, mile 0.3, at Essington, will operate as follows:

(1) The owner of this bridge on this waterway shall provide and keep in good legible condition two board gages painted white with black figures, nine inches high to indicate the vertical clearance under the closed draw at all stages of the tide. The gages shall be so placed on the bridge that they are plainly visible to operators of vessels approaching the bridge either up or downstream.

(2) Trains shall be controlled so that any delay in opening of the draw shall not exceed ten minutes except as provided in § 117.31(b). However, if a train moving toward the bridge has crossed the home signal for the bridge before the signal requesting opening of the bridge is given, the train may continue across the bridge and must clear the bridge interlocks before stopping.

(3) From May 15 through October 15, the draw shall be left in the open position at all times and will only be lowered for the passage of trains and to perform periodic maintenance authorized in accordance with subpart A of this part.

(4) The bridge will be operated by the bridge/train controller at the Delair Railroad Bridge in Delair, New Jersey.

(5) Before the bridge closes for any reason, an on-site crewmember will observe the waterway for approaching craft, which will be allowed to pass. The on-site crewmember will then communicate with the off-site bridge/train controller at the Delair Railroad Bridge either by radio or telephone, requesting the off-site bridge/train controller to lower the bridge.

(6) The bridge shall only be lowered from the remote site if the on-site crewmember's visual inspection shows there are no vessels in the area and the infrared channel sensors are not obstructed.

(7) While the CONRAIL Railroad Bridge is moving from the full open to the full closed position, the off-site bridge/train controller will maintain constant surveillance of the navigational channel using infrared sensors to ensure no conflict with maritime traffic exists. In the event of failure or obstruction of the infrared channel sensors, the off-site bridge/train controller will stop the bridge and return the bridge to the open position. In the event of loss of radio or telephone communications with the on-site crewmember, the off-site bridge/train controller will stop the bridge and the bridge return to the open position.

(8) When the draw cannot be operated from the remote site, a bridge tender must be called to operate the bridge in the traditional on-site manner.

(9) The CONRAIL Railroad channel traffic lights will change from flashing green to flashing red anytime the bridge is not in the full open position.

(10) During downward span movement, the channel traffic lights will change from flashing green to flashing red, the horn will sound two times, followed by a pause, and then two repeat blasts until the bridge is seated and locked down.

(11) When the rail traffic has cleared, the off-site bridge/train controller at the Delair Railroad Bridge will sound the horn five times to signal the draw of the CONRAIL Railroad Bridge is about to return to its full open position.

(12) During upward span movement, the channel traffic lights will change from flashing green to flashing red, the horn will sound two times, followed by a pause, and then sound repeat blasts until the bridge is in the full open position. In the full open position, the channel traffic lights will then turn from flashing red to flashing green.

(13) From October 16 through May 14, the draw shall open on signal if at least 24 hours notice is given by telephone at (856) 231-7088 or (856) 662-8201. Operational information will be provided 24 hours a day by telephone at (856) 231-7088 or (856) 662-8201.

(b) The Reading Railroad Bridge, mile 0.3, at Essington, will be left in the full open position at all times.

Dated: January 29, 2002.
Thad W. Allen,
Vice Admiral, U.S. Coast Guard, Commander, Fifth Coast Guard District.

[FR Doc. 02-3249 Filed 2-8-02; 8:45 am]

BILLING CODE 4910-15-P